DEPARTMENT OF THE INTERIOR

Fish and Wildlife Service

[Docket No. FWS-HQ-IA-2015-0152; FXIA16710900000-156-FF09A30000]

Endangered Species; Receipt of Applications for Permit

AGENCY: Fish and Wildlife Service, Interior.

ACTION: Notice of receipt of applications for permit.

SUMMARY: We, the U.S. Fish and Wildlife Service, invite the public to comment on the applications to conduct certain activities with endangered species and migratory birds. With some exceptions, the Endangered Species Act (ESA) prohibits activities with listed species unless Federal authorization is acquired that allows such activities. The public is also invited to comment on the following applications for approval to conduct certain activities with bird species covered under the Wild Bird Conservation Act of 1992, which was enacted to ensure that exotic bird species are not harmed by international trade and to encourage wild bird conservation programs in countries of origin.

DATES: We must receive comments or requests for documents on or before October 30, 2015.

ADDRESSES: Submitting Comments: You may submit comments by one of the following methods:

• Federal eRulemaking Portal: http://www.regulations.gov. Follow the instructions for submitting comments on Docket No. FWS-HQ-IA-2015-0152.

• U.S. mail or hand-delivery: Public Comments Processing, Attn: Docket No. FWS-HQ-IA-2015-0152; U.S. Fish and Wildlife Service Headquarters, MS: BPHC; 5275 Leesburg Pike, Falls Church, VA 22041-3803.

We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Endangered Species Applications: Brenda Tapia, Program Analyst/Data Administrator, Division of Management Authority, U.S. Fish and Wildlife Service Headquarters, MS: IA; 5275 Leesburg Pike, Falls Church, VA 22041-3803; telephone 703-358-2104; facsimile 703-358-2280.

Wild Bird Conservation Act Applications: Craig Hoover, Chief, Division of Management Authority, U.S. Fish and Wildlife Service Headquarters, MS: IA; 5275 Leesburg Pike, Falls Church, VA 22041-3803; telephone 703-358-2095; facsimile 703-358-2298.

If you use a telecommunications device for the deaf (TDD), call the Federal Information Relay Service (FIRS) at 800-877-8339.

SUPPLEMENTARY INFORMATION:

I. Public Comment Procedures

A. How do I obtain copies of applications or comment on submitted applications?

For how to obtain copies of the complete applications, and how to submit written data or comments, see ADDRESSES. Please include the Federal Register notice publication date, the PRT-number, and the name of the applicant in your request or submission. We will not consider comments sent to an email or address not listed under ADDRESSES.

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review on regulations.gov and at the address found in ADDRESSES.

II. Permit Applications

A. Endangered Species

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

Applicant: Valley Zoological Society, Brownsville, TX; PRT-63567B

The applicant requests a permit to import four captive-bred Philippine crocodile (Crocodylus mindorensis) for the purpose of enhancement of the survival of the species. This notification covers activities to be conducted by the applicant over a 1-year period.

Applicant: White Oak Conservation Holdings, LLC, Yulee, FL; PRT-58992B

The applicant requests a permit to import one female captive-bred Andean condor (Vultur gryphus) for the purpose of enhancement of the survival of the species from Taronga Zoo, Mosman, New South Wales, Australia.

Applicant: Cleveland Metroparks Zoo, Cleveland, OH; PRT-69476B

The applicant requests a permit to export one female captive-bred Golden Lion Tamarin (Leontopithecus rosalia) for the for the purpose of enhancement of the survival of the species. This notification covers activities to be conducted by the applicant over a 5-year period.

Applicant: Wildlife & Environmental Conservation, Inc., Moorpark, CA; PRT-75313B

The applicant requests a permit to purchase in interstate commerce two captive-born male African leopards (Panthera pardus) from Living Treasures Wild Animal Park, New Castle, Pennsylvania, for the purpose of enhancement of the survival of the species.

Applicant: University of Colorado Denver, Aurora, CO; PRT-64101B

The applicant requests a permit to import biological samples from 129 brush-tailed bettong (Bettongia penicillata) from the wild for purpose of scientific research. This notification covers activities to be conducted by the applicant over a 1-year period.

Applicant: Bhagavan Antle, Myrtle Beach, SC; PRT-71654B

The applicant requests a permit to export and re-import 18 captive-born tigers (Panthera tigris) for the purpose of enhancement of the survival of the species to and from Cancun, Quintana Roo, Mexico. This notification covers activities to be conducted by the applicant over a 3-year period.

Applicant: City of Bridgeton/Cohanzick Zoo, Bridgeton, NJ; PRT-63829B

The applicant requests a captive-bred wildlife registration under 50 CFR 17.21(g) for the following species to enhance species propagation or survival: Radiated tortoise (Astrochelys radiata), spotted pond turtle (Geoclemys hamiltonii), aquatic box turtle (Terrapene coahuila), Jamaican boa (Epicrates subflavus), Cabot's tragopan (Tragopan caboti), Moluccan cockatoo (Cacatua moluccensis), White cockatoo (Cacatua alba), Blue-throated macaw (Ara glaucogularis), ring-tailed lemur (Lemur catta), cottontop tamarin (Saguinus oedipus), lar gibbon (Hylobates lar), and spotted leopard (Panthera pardus). This notification covers activities to be conducted by the applicant over a 5-year period.

Applicant: Peter Langegger, Silt, CO; PRT-64786B

The applicant requests a captive-bred wildlife registration under 50 CFR 17.21(g) for the following species to enhance species propagation or survival: Radiated tortoise (Astrochelys radiata), Bolson tortoise (Gopherus flavomarginatus), aquatic box turtle (Terrapene coahuila), yellow-spot river turtle (Podocnemis unifilis), spotted pond turtle (Geoclemys hamiltonii), and Galapagos tortoise (Chelonoidis nigra). This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Jared Golding, Draper, UT; PRT-66604B

Applicant: Anden Neal Van Beek, Beresford, SD; PRT-73793B

Applicant: Luke Snyder, Springfield, MO; PRT-76168B

B. Wild Bird Conservation Act

The public is invited to comment on the following applications for approval to conduct certain activities with bird species covered under the Wild Bird Conservation Act of 1992 (16 U.S.C. 4901-4916). This notice is provided pursuant to section 112(4) of the Wild Bird Conservation Act of 1992, 50 CFR 15.26(c).

Applicant: The Peregrine Fund, Boise, Idaho

The applicant seeks to establish a cooperative breeding program for Taita falcon (Falco fasciinucha). The applicant wishes to be an active participant in this program, along with Weaver Ranch, Causey, New Mexico. If approved, the program will be overseen by The Peregrine Fund, Boise, Idaho.

Applicant: John Aynes, Oklahoma City, Oklahoma

The applicant seeks to establish a cooperative breeding program for grey parrot (Psittacus erithacus). The applicant wishes to be an active participant in this program along with Susan Clubb, DVM, Loxahatchee, Florida, and Walter Frey, Parrot Ranch, Idabel, Oklahoma. If approved, the program will be overseen by the Zoological Association of America, Punta Gorda, Florida.

III. Public Comments

You may submit your comments and materials concerning this notice by one of the methods listed in ADDRESSES. We will not consider comments sent by email or fax or to an address not listed in ADDRESSES.

If you submit a comment via http://www.regulations.gov, your entire comment, including any personal identifying information, will be posted on the Web site. If you submit a hardcopy comment that includes personal identifying information, you may request at the top of your document that we withhold this information from public review. However, we cannot guarantee that we will be able to do so.

We will post all hardcopy comments on http://www.regulations.gov.

IV. Authority

Wild Bird Conservation Act of 1992 (16 U.S.C. 4901-4916).

Brenda Tapia,
Program Analyst/Data Administrator, Branch of Permits, Division of Management Authority.

[FR Doc. 2015-24692 Filed 9-29-15; 8:45 am]

BILLING CODE 4310-55-P